DEPARTMENT OF TRANSPORTATION

Office of the Secretary; Availability of the Federal Radionavigation Plan

AGENCY: Office of the Assistant Secretary for Transportation Policy, DOT.

ACTION: Availability of the Federal Radionavigation Plan.

SUMMARY: The 2001 edition of the Federal Radionavigation Plan (FRP) has been published and is available for comment. The policies in the 2001 FRP focus on transition to GPS based services as a primary means of navigation, recognizing the need to maintain backup navigation aids and provide redundant radionavigation service where required. The 2001 FRP projects an initial operating capability for the FAA Wide Area Augmentation System in 2003. The FAA's Local Area Augmentation System is planned to begin public service in 2006. The 2001 FRP also includes a revised schedule for phasing down land-based navigation aids. The phase down of most land-based navigation aids operated by the FAA will begin in 2010. The FAA does not plan phasing out any Instrument Landing Systems (ILSs) for Category II and III approaches. The U.S. will continue operating Loran-C in the short term while the Administration continues to evaluate the long-term need for the system. Maritime radiobeacons not used for differential GPS have been phased out. Stand-alone aeronautical nondirectional beacons (NDBs) will be phased out starting in 2010. NDBs used as compass locators for ILSs will be phased out when the underlying ILSs are withdrawn. All comments, concerns, and suggestions regarding the current policies and plans in the 2001 FRP will be considered in formulation of the 2003 FRP.

DATES: Comments must be received by December 31, 2002 for consideration in development of the 2003 FRP.

ADDRESSES: Comments should be forwarded to the Chairman, DOT POS/NAV Working Group, U.S. Department of Transportation (P-7), Room 10315, 400 Seventh Street, SW, Washington, DC 20590. E-mail: michael.shaw@ost.dot.gov.

FOR FURTHER INFORMATION CONTACT: Michael Shaw, Department of Transportation (P-7), 400 7th Street, SW, Washington, DC, 20590, (202) 366-0353.

SUPPLEMENTARY INFORMATION: Beginning with this edition of the FRP, Federal radionavigation information previously contained in a single document will be published in two separate documents, the Federal Radionavigation Plan and a companion document entitled Federal Radionavigation Systems (FRS). The FRP includes the introduction, policies, operating plans, system selection considerations, and R&D sections and will allow more efficient and responsive updates of policy and planning information. Sections relating to government roles and responsibilities, user requirements, and systems descriptions have been moved to the companion FRS and will be updated as necessary.

Free copies of the 2001 FRP are available on CD ROM from the Volpe National Transportation System Center, Kendall Square, Cambridge, Mass. 02142. The telephone number there is (617) 494-2908. The 1999 FRP is also on the Internet World Wide Web at http://www.navcen.uscg.gov/pubs/frp2001.

Issued in Washington, DC, on March 28, 2002.
Linda L. Lawson,
Acting Deputy Assistant Secretary for Transportation Policy.

[FR Doc. 02-8185 Filed 4-3-02; 8:45 am]

BILLING CODE 4910-62-P